DEPARTMENT OF COMMERCE

Submission for OMB Review; Comment Request

The Department of Commerce will submit to the Office of Management and Budget (OMB) for clearance the following proposal for collection of information under the provisions of the Paperwork Reduction Act (44 U.S.C. Chapter 35).

Agency: Bureau of Economic Analysis (BEA), Department of Commerce.

Title: Quarterly Survey of Foreign Airline Operators' Revenues and Expenses in the United States.

OMB Control Number: 0608-0068.

Form Number: BE-9.

Type of Request: Regular submission.

Number of Responses: 180 annually (45 filed each quarter; 44 reporting mandatory data, and 1 that would file an exemption claim).

Average Hours per Response: 6 hours is the average for those reporting data and 1 hour is the average for those not reporting data, but hours may vary considerably among respondents because of differences in company size and complexity.

Estimated Total Annual Burden Hours: 1,060.

Needs and Uses: The Quarterly Survey of Foreign Airline Operators' Revenues and Expenses in the United States (BE-9) is a survey that collects data from U.S. offices, agents, or other representatives of foreign airline operators that transport freight and express to or from the United States and whose total covered revenues or total covered expenses were $5 million or more in the previous year or are expected to be $5 million or more during the current year. The covered revenues are freight revenue on merchandise exported from, or imported into, the United States. The covered expenses are expenses incurred in the United States for: (1) Fuel and oil; (2) wages and salaries paid to employees in the United States; (3) agents' and brokers' fees and commissions for arrangement of freight and passenger transportation; (4) aircraft handling and terminal services, aircraft (with crew) leasing expenses, and (5) all other expenses incurred in the United States except aircraft leasing (without crew) expenses.

Respondents are also asked to report: (1) Shipping weights on which freight revenues were earned; (2) the number of passengers transported to/from the United States; and (3) revenues associated with these passengers.

The data are needed to monitor U.S. trade in transport services, to analyze the impact on the U.S. and foreign economies, to compile and improve the U.S. economic accounts, to support U.S. commercial policy on trade in transport services, to conduct trade promotion, and to improve the ability of U.S. businesses to identify and evaluate market opportunities. The data are used in estimating the transport component of the U.S. international transactions accounts (ITAs) and national income and product accounts (NIPAs).

The Bureau of Economic Analysis (BEA) is proposing no additions or modifications to the current BE-9 survey. The effort to keep current reporting requirements unchanged is intended to minimize respondent burden while considering the needs of data users. Existing language in the instructions and definitions will be reviewed and adjusted as necessary to clarify survey requirements.

Affected Public: Businesses or other for-profit organizations.

Frequency: Quarterly.

Respondent's Obligation: Mandatory.

This information collection request may be viewed at www.reginfo.gov. Follow the instructions to view Department of Commerce collections currently under review by OMB.

Written comments and recommendations for the proposed information collection should be sent within 30 days of publication of this notice to OIRA_Submission@omb.eop.gov or fax to (202) 395-806.

Dated: November 13, 2015.
Sheleen Dumas,
Departmental PRA Lead, Office of the Chief Information Officer.

[FR Doc. 2015-29415 Filed 11-17-15; 8:45 am]

BILLING CODE 3510-06-P